DEPARTMENT OF EDUCATION

[Docket No.: ED-2021-SCC-0164]

Agency Information Collection Activities; Comment Request; Evaluation of the Implementation of the Statewide Family Engagement Centers

AGENCY: Institute of Educational Science (IES), Department of Education (ED).

ACTION: Notice.

SUMMARY: In accordance with the Paperwork Reduction Act of 1995, ED is proposing a new information collection.

DATES: Interested persons are invited to submit comments on or before January 25, 2022.

ADDRESSES: To access and review all the documents related to the information collection listed in this notice, please use http://www.regulations.gov by searching the Docket ID number ED-2021-SCC-0164. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208C, Washington, DC 20202-8240.

FOR FURTHER INFORMATION CONTACT: For specific questions related to collection activities, please contact Andrew Abrams, 202-245-7500.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Implementation of the Statewide Family Engagement Centers.

OMB Control Number: 1850-NEW.

Type of Review: A new information collection.

Respondents/Affected Public: Private Sector; State, Local, and Tribal Governments.

Total Estimated Number of Annual Responses: 65.

Total Estimated Number of Annual Burden Hours: 66.

Abstract: Despite the important role family engagement may play in children's educational progress, families below the poverty line are significantly less likely than those at or above the poverty line to be involved in their child's schooling. The Statewide Family Engagement Centers (SFEC) is one of the key U.S. Department of Education programs designed to close this gap. Funded for the first time in 2018, SFEC builds on an earlier program and provides grants to partnerships of education organizations and their states. The partners are expected to both deliver services directly to families to increase their engagement and to provide technical assistance and training to state, district, and school staff to help them help families. This study will describe the work of the first 12 grantees, focusing on the extent to which certain program priorities are being implemented. The results are intended to help federal policy makers refine the goals and objectives of the SFEC program, as well as inform the work of education organizations and state and local education agencies beyond the current grantees to improve their work with families.

Dated: November 22, 2021.
Juliana Pearson,
PRA Coordinator, Strategic Collections and Clearance, Governance and Strategy Division, Office of Chief Data Officer, Office of Planning, Evaluation and Policy Development.

[FR Doc. 2021-25815 Filed 11-24-21; 8:45 am]

BILLING CODE 4000-01-P